NATIONAL LABOR RELATIONS BOARD

Appointments of Individuals To Serve as Members of Performance Review Board

5 U.S.C. 4314(c)(4) requires that appointments of individuals to serve as members of Performance Review Boards be published in the Federal Register. Therefore, in compliance with this requirement, notice is hereby given that the individuals whose names and position titles appear below have been appointed to serve as members of Performance Review Boards in the National Labor Relations Board for the rating year beginning October 1, 2007 and ending September 30, 2008.

Name and Title

William B Cowen, Solicitor

John H. Ferguson, Associate General Counsel, Enforcement Litigation

Gloria J. Joseph, Director of Administration

Gary W. Shinners, Deputy Chief Counsel to Board Member

Richard A. Siegel, Associate General Counsel, Operations Management

Lafe E. Solomon, Director, Office of Representation Appeals

Terence F. Flynn, Chief Counsel to Board Member (Alternate)

Barry J. Kearney, Associate General Counsel, Advice (Alternate)

Dated: October 23, 2008, Washington, DC.
Direction of the Board.
Lester A. Heltzer,
Executive Secretary.

[FR Doc. E8-25694 Filed 10-27-08; 8:45 am]

BILLING CODE 7545-01-P